DEPARTMENT OF ENERGY

Federal Energy Regulatory Commission

[P-12514-000]

Northern Indiana Public Service Company; Norway-Oakdale Project, Indiana; Notice of Availability of Environmental Assessment

October 6, 2006.

In accordance with the National Environmental Policy Act (NEPA) of 1969, as amended, and Federal Energy Regulatory Commission (Commission) regulations (18 CFR part 380), Commission staff have reviewed the application for license for the Norway-Oakdale Project and have prepared an environmental assessment (EA) for the project. The project is located on the Tippecanoe River in Carroll and White counties, Indiana.

In this EA, Commission staff analyzes the probable environmental effects of implementing the project and conclude that approval of the project, with appropriate staff-recommended environmental measures, would not constitute a major Federal action significantly affecting the quality of the human environment.

Copies of the EA are available for review in Public Reference Room 2-A of the Commission's offices at 888 First Street, NE., Washington, DC. The EA also may be viewed on the Commission's Internet Web site (http://www.ferc.gov) using the “eLibrary” link. Additional information about the project is available from the Commission's Office of External Affairs at (202) 502-6088, or on the Commission's Web site using the “eLibrary” link. For assistance with eLibrary, contact FERCOnline Support@ferc.gov; call toll-free at (866) 208-3676; or, for TTY, contact (202) 502-8659.

Any comments on the EA should be filed within 30 days of the date of this notice and should be addressed to Magalie R. Salas, Secretary, Federal Energy Regulatory Commission, 888 First Street, NE., Washington, DC 20426. Please reference the specific project and FERC Project No. on all comments. Comments may be filed electronically via the Internet in lieu of paper. See 18 CFR 385.2001(a)(1)(iii) and the instructions on the Commission's Web site under the “e-Filing” link.

For further information please contact: Sergiu Serban (202) 502-6211 or at sergiu.serban@ferc.gov.

Magalie R. Salas,
Secretary.

[FR Doc. E6-16962 Filed 10-12-06; 8:45 am]

BILLING CODE 6717-01-P